NATIONAL AERONAUTICS AND SPACE ADMINISTRATION

[Notice: (10-104)]

NASA Advisory Council; Education and Public Outreach Committee; Meeting

AGENCY: National Aeronautics and Space Administration.

ACTION: Notice of meeting.

SUMMARY: In accordance with the Federal Advisory Committee Act, Public Law 92-463, as amended, the National Aeronautics and Space Administration announces a meeting of the Education and Public Outreach Committee of the NASA Advisory Council.

DATES: Monday, September 20, 2010, 9 a.m. to 4 p.m., Local Time.

ADDRESSES: NASA Johnson Space Center, Gilruth Center—Longhorn Room, Houston, TX 77058.

FOR FURTHER INFORMATION CONTACT: This meeting will also take place telephonically and via WebEx. Any interested person should contact Ms. Erika G. Vick, Executive Secretary for the Education and Public Outreach Committee, National Aeronautics and Space Administration, Washington, DC, at Erika.vick-1@nasa.gov, no later than 4 p.m. EDT September 17, 2010, to get further information about participating via teleconference and/or WebEx.

SUPPLEMENTARY INFORMATION: The agenda for the meeting includes the following topics:

• Regulations that Constrain Public Engagement.

• NASA and Social Media.

• Education Design Team.

• Action Item Status.

• Johnson Space Center Presentations.

The meeting will be open to the public up to the seating capacity of the room. It is imperative that the meeting be held on this date to accommodate the scheduling priorities of the key participants.

Dated: August 31, 2010.
P. Diane Rausch,
Advisory Committee Management Officer, National Aeronautics and Space Administration.

[FR Doc. 2010-22200 Filed 9-2-10; 8:45 am]

BILLING CODE P